DEPARTMENT OF JUSTICE

[AAG/A Order No. 004-2007]

Privacy Act of 1974; System of Records

AGENCY: Department of Justice.

ACTION: Notice.

SUMMARY: Pursuant to the Privacy Act of 1974 (5 U.S.C. 552a) and Office of Management and Budget (OMB) Circular No. A-130, Appendix I, Federal Agency Responsibilities for Maintaining Records About Individuals, notice is hereby given that the Department of Justice (DOJ or Justice) is establishing the following new system of records: “Justice Federal Docket Management System [Justice FDMS], DOJ-013.” Justice FDMS allows the public to search, view, download, and comment on all Department of Justice rulemaking documents in one central online system. This system notice covers the various records maintained by all Department of Justice components pertaining to public comments under the Justice FDMS.

DATES: In accordance with 5 U.S.C. 552a (e)(4) and (11), the public is given a 30-day period in which to comment, and the Office of Management and Budget (OMB) which has oversight responsibility under the Privacy Act, requires a 40-day period in which to conclude its review of the system. Written comments must be postmarked, and electronic comments must be sent, on or before April 24, 2007.

ADDRESSES: Address all comments to Mary Cahill, Management Analyst, Management and Planning Staff, Justice Management Division, Department of Justice, Washington, DC 20530, mary.e.cahill@usdoj.gov, facsimile number 202-307-1853.

FOR FURTHER INFORMATION CONTACT: Mike Duffy, Deputy Chief Information Officer for E-Government on 202-514-0507.

SUPPLEMENTARY INFORMATION: The Federal Docket Management System (FDMS) serves as a central, electronic repository for all Federal rulemaking dockets, which may include, but are not necessarily limited to, Federal Register Notices of Proposed Rulemaking, Interim Rules, supporting materials such as scientific or economic analyses, and public comments, as well as non-rulemaking dockets, such as Notices, at the option of the agency or component. Although it is likely that, in the future, the Department will use the FDMS as its electronic record keeping system in accordance with the Federal Records Act, 44 U.S.C. 3301 et seq., for DOJ FDMS records, at present the permanent recordkeeping system for DOJ will remain a paper record keeping system. The FDMS is a system used by all Federal agencies that conduct rulemakings.

The Department of Justice is publishing this new system of records notice for the E-Government, E-Rulemaking Initiative's FDMS, in order to satisfy the applicable requirements of the Privacy Act. Previously the Environmental Protection Agency (EPA) published a notice in the Federal Register (70 FR 15086, March 24, 2005) as the Program Manager for the Federal-wide E-Rulemaking Initiative. This present notice provides information specific to the Department of Justice and its components and their use of electronic documents posted on, or submitted to, Justice FDMS, and replaces the EPA notice for DOJ records in the FDMS.

Members of the public who use FDMS to submit a comment on a DOJ Federal rulemaking may be asked to provide name and contact information (e-mail or mailing address). If that comment meets all requirements, as determined by the Department of Justice or the component publishing the rulemaking, the comment will be posted on the Internet at the FDMS Web site— http://www.regulations.gov—for public viewing, and all the contents of the posted comment will be searchable. The FDMS is a system with full text search capability, that would include any name and identifying information submitted in the body of the comment. Names of individuals and organizations submitting comments using Justice FDMS will be posted on the http://www.regulations.gov site with their respective comments for public viewing. Contact information (e-mail or mailing address) will not be available for public viewing, unless the submitter includes that information in the body of the comment. Under any circumstances, contact information will be retained by the agency or the component as part of this system.

A component may choose not to post certain types of information contained in a comment submission, yet preserve the entire comment to be reviewed and considered as part of the rulemaking docket by the component. For example, comments containing material restricted from disclosure by Federal statute may not be publicly posted, but will be retained and evaluated/considered by the receiving component.

The Justice FDMS contains information that is submitted to the Department in support of Federal rulemakings. The portion of this system that is covered by the Privacy Act includes the personally identifiable information submitted by commenters.

In accordance with 5 U.S.C. 552a (r), the Department has provided a report to OMB and appropriate Members of Congress.

Dated: March 5, 2007.
Lee J. Lofthus,
Assistant Attorney General for Administration.

Department of Justice

DOJ-013

System Name:

Justice Federal Docket Management System (Justice FDMS).

Security Classification:

None.

System Location:

U.S. Department of Justice, 950 Pennsylvania Ave., NW., Washington, DC 20530 and other Department of Justice offices.

Categories of Individuals Covered by the System:

Any person—including private individuals, representatives of Federal, State or local governments, businesses, and industries, that provides personally identifiable information pertaining to DOJ and persons mentioned or identified in the body of a comment.

Categories of Records in the System:

Agency rulemaking material includes but is not limited to public comments received through FDMS pertaining to DOJ rulemaking where such comments contain personally identifiable information; and any other supporting rulemaking documentation.

Authority for Maintenance of the System:

Section 206(d) of the E-Government Act of 2002 (Pub. L. 107-347, 44 U.S.C. Chapter 36).

Purpose(s):

To assist the Federal Government in allowing the public to search, view, download, and comment on Federal agency rulemaking documents in one central on-line location and to contact commenters if necessary.

Routine Uses of Records Maintained in the System Including Categories of Users and the Purposes of Such Uses:

A. Where a record, either alone or in conjunction with other information, indicates a violation or potential violation of law—criminal, civil, or regulatory in nature—the relevant records may be referred to the appropriate Federal, State, local, tribal, or foreign law enforcement authority or other appropriate entity charged with the responsibility for investigating or prosecuting such violation or charged with enforcing or implementing such law.

B. To appropriate officials and employees of a Federal agency or entity that requires information relevant to a decision concerning the hiring, appointment, or retention of an employee; the issuance, renewal, suspension, or revocation of a security clearance; the execution of a security or suitability investigation; the letting of a contract; or the issuance of a grant or benefit.

C. To Federal, State, local, tribal, foreign, or international licensing agencies or associations which require information concerning the suitability or eligibility of an individual for a license or permit.

D. Information may be disclosed to the Office of Management and Budget at any stage in the legislative coordination and clearance process in connection with private relief legislation as set forth in OMB Circular No. A-19, Circular No. A-130, Appendix I, Federal Agency Responsibilities for Maintaining Records About Individuals.

E. To a Member of Congress or staff acting upon the Member's behalf when the Member or staff requests the information on behalf of, and at the request of, the individual who is the subject of the records.

F. In an appropriate proceeding before a court, or administrative or adjudicative body, when the Department of Justice determines that the records are arguably relevant to the proceeding; or in an appropriate proceeding before an administrative or adjudicative body when the adjudicator determines the records to be relevant to the proceeding.

G. To the National Archives and Records Administration (NARA) for purposes of records management inspections conducted under the authority of 44 U.S.C. 2904 and 2906.

H. To contractors, grantees, experts, consultants, students, and others performing or working on a contract, service, grant, cooperative agreement, or other assignment for the Federal Government, when necessary to accomplish an agency function related to this system of records.

I. To an actual or potential party to litigation or the party's authorized representative for the purpose of negotiation or discussion of such matters as settlement, plea bargaining, or in informal discovery proceedings.

J. To the news media and the public, including disclosures pursuant to 28 CFR 50.2, unless it is determined that release of the specific information in the context of a particular case would constitute an unwarranted invasion of personal privacy.

K. To a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility.

L. To such recipients and under such circumstances and procedures as are mandated by Federal statute or treaty.

M. To the White House (the President, Vice-President, their staffs, and other entities of the Executive Office of the President), and, during Presidential transitions, to the President Elect and Vice-President Elect and their designated transition team staff, for coordination of activities that relate to or have an effect upon the carrying out of the constitutional, statutory, or other official or ceremonial duties of the President, President Elect, Vice-President or Vice-President Elect.

N. To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Disclosure to Consumer Reporting Agencies:

Not Applicable.

Policies and Practices for Storing, Retrieving, Accessing, Retaining, and Disposing of Records in the System:

Storage:

Records will be maintained in computer databases compliant with DOD 5015.2 electronic records standards. A paper copy of all rulemaking docket materials will also be maintained by the components and constitutes the official record.

Retrievability:

The FDMS will have the ability to retrieve records by various data elements and key word searches, including: Name, Agency, Component, Docket Type, Docket Sub-Type, Agency Docket ID, Docket Title, Docket Category, Document Type, CFR Part, Date Comment Received, and Federal Register Published Date.

Safeguards:

Justice FDMS security protocols will meet multiple NIST Security Standards from Authentication to Certification and Accreditation. Records in the Justice FDMS will be maintained in a secure, password protected electronic system that will utilize security hardware and software to include: multiple firewalls, active intruder detection, and role-based access controls. Additional safeguards will vary by component.

Retention and Disposal:

Each component will handle its records in accordance with its records schedule as approved by the National Archives and Records Administration (NARA). Electronic data will be retained and disposed of in accordance with the component's records schedule pending approval by the NARA. The majority of documents residing on this system will be public comments and other documentation in support of Federal rulemakings. All Federal Register rulemakings are part of the Justice FDMS and are identified as official records and retained by NARA.

System Managers and Addresses:

Technical Issues: Justice Department, Deputy Chief Information Officer for E-Government, Office of the Chief Information Officer, United States Department of Justice, 950 Pennsylvania Avenue, NW., RFK Main Building, Washington, DC 20530.

Policy Issues: Justice Department FDMS Policies System Administrator, Office of Legal Policy, United States Department of Justice, 950 Pennsylvania Avenue, NW., RFK Main Building, Washington, DC 20530.

Component Managers can be contacted through the Department's System Managers.

Notification Procedure:

Records concerning comments received through FDMS pertaining to DOJ rulemaking are maintained by the individual DOJ component to which the comment was directed. Inquiries regarding these records should be addressed to the particular DOJ component maintaining the records at Department of Justice, 950 Pennsylvania Avenue, NW., RFK Main Building, Washington, DC 20530. For records concerning the DOJ FDMS system generally, requests should be made to the System Manager for technical or policy issues as appropriate, listed above.

Record Access Procedures:

Requests for access may be made by appearing in person or by writing to the appropriate system manager at the address indicated in the System Managers and Addresses section, or as described in the Notification Procedures, above. The envelope and letter should be clearly marked “Privacy Act Request.” The request should include a general description of the records sought and must include the requester's full name, current address, and date and place of birth. The request must be signed, dated, and either notarized or submitted under penalty of perjury. Although no specific form is required, forms may be obtained for this purpose from the FOIA/PA Mail Referral Unit, Justice Management Division, United States Department of Justice, 950 Pennsylvania Avenue, NW., Washington DC 20530-0001, or on the Department of Justice Web site at http://www.usdoj.gov/04foia/att_d.htm.

Contesting Records Procedures:

Individuals seeking to contest or amend information maintained in the system should direct their requests to the appropriate system manager at the address indicated in the System Managers and Addresses section, or as described in the Notification Procedures, above, stating clearly and concisely what information is being contested, the reasons for contesting it, and the proposed amendment to the information sought.

Record Source Categories:

Any person, including public citizens and representatives of Federal, state or local governments; businesses; and industries.

Exemptions Claimed for the System:

None.

[FR Doc. E7-4782 Filed 3-14-07; 8:45 am]

BILLING CODE 4410-FB-P